DEPARTMENT OF ENERGY

Federal Energy Regulatory Commission

[Project No. 2179-043—California; Project No. 2467-020—California]

Merced Irrigation District; Pacific Gas and Electric Company; Notice of Availability of the Final Environmental Impact Statement for the Merced River and Merced Falls Hydroelectric Projects

In accordance with the National Environmental Policy Act of 1969 and the Federal Energy Regulatory Commission (Commission or FERC) regulations contained in the Code of Federal Regulations (CFR) (18 CFR part 380 [FERC Order No. 486, 52 FR 47897]), the Office of Energy Projects has reviewed the applications for license for the Merced River Hydroelectric Project (FERC No. 2179), and the Merced Falls Hydroelectric Project (FERC No. 2467) and prepared a final multi-project environmental impact statement (EIS) for the projects.

Both projects are located on the Merced River. The Merced River Project is located at river mile (RM) 62.5 and 56.3, respectively, about 23 miles northeast of the city of Merced in Mariposa County, California. The Merced River Project occupies 3,154.9 acres of federal land administered by the U.S. Department of the Interior, Bureau of Land Management (BLM). The Merced Falls Project is located at RM 55 on the border of Merced and Mariposa Counties, California. The Merced Falls Project occupies 1.0 acre of federal land administered by BLM.

The final EIS contains staff evaluations of the applicants' proposals and the alternatives for relicensing the Merced River and Merced Falls projects. The final EIS documents the views of governmental agencies, non-governmental organizations, affected Indian tribes, the public, the license applicants, and Commission staff.

A copy of the final EIS is available for review at the Commission or may be viewed on the Commission's Web site at http://www.ferc.gov, using the “e-Library” link. Enter the docket number, excluding the last three digits, to access the document. For assistance, contact FERC Online Support at FERCOnlineSupport@ferc.gov or toll-free at (866) 208-3676, or for TTY, contact (202) 502-8659.

You may also register online at http://www.ferc.gov/docs-filing/esubscription.asp to be notified via email of new filings and issuances related to this or other pending projects. For assistance, contact FERC Online Support.

For further information, please contact Matt Buhyoff at (202) 502-6824 or at matt.buhyoff@ferc.gov.

Dated: December 4, 2015.
Nathaniel J. Davis, Sr.,
Deputy Secretary.

[FR Doc. 2015-31126 Filed 12-9-15; 8:45 am]

BILLING CODE 6717-01-P